DEPARTMENT OF JUSTICE

Antitrust Division

Notice Pursuant to the National Cooperative Research and Production Act of 1993—Multi-Terabyte Tape Storage

Notice is hereby given that, on September 30, 2003, pursuant to section 6(a) of the National Cooperative Research and Production Act of 1993, 15 U.S.C. 4301 et seq. (“the Act”), Multi-Terabyte Tape Storage has filed written notifications simultaneously with the Attorney General and the Federal Trade Commission disclosing changes in its membership status. The notifications were filed for the purpose of extending the Act's provisions limiting the recovery of antitrust plaintiffs to actual damages under specified circumstances. Specifically, Advanced MicroSensors, Inc., Shrewsbury, MA has been added as a party to this venture. Also, Read-Rite Corporation, Freemont, CA has been dropped as a party to this venture.

No other changes have been made in either the membership or planned activity of the group research project. Membership in this group research project remains open, and Multi-Terabyte Tape Storage intends to file additional written notification disclosing all changes in membership.

On October 29, 2002, Multi-Terabyte Tape Storage filed its original notification pursuant to Section 6(a) of the Act. The Department of Justice published a notice in the Federal Register pursuant to section 6(b) of the Act on December 5, 2002 (67 FR 72429).

Dorothy B. Fountain,
Deputy Director of Operations, Antitrust Division.

[FR Doc. 03-27378 Filed10-29-03; 8:45 am]

BILLING CODE 4410-11-M